DEPARTMENT OF ENERGY

Federal Energy Regulatory Commission

[Docket No. EL14-18-000]

Gregory R. Swecker, Beverly F. Swecker v. Midland Power Cooperative, Central Iowa Power Cooperative; Notice of Petition for Enforcement

Take notice that on January 10, 2014, Gregory R. and Beverly F. Swecker (the Sweckers) filed a Petition for Enforcement, pursuant to section 210(h) of the Public Utility Regulatory Policies Act of 1978 (PURPA), requesting the Federal Energy Regulatory Commission (Commission) to exercise its authority and initiate enforcement action against Midland Power Cooperative (Midland) and Central Iowa Power Cooperative (CIPCO) for payment of excess electric energy and capacity delivered to Midland at Midland and/or CIPCO's full avoided costs rates.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on January 31, 2014.

Dated: January 14, 2014.
Kimberly D. Bose,
Secretary.

[FR Doc. 2014-01056 Filed 1-17-14; 8:45 am]

BILLING CODE 6717-01-P